DEPARTMENT OF TRANSPORTATION

Federal Aviation Administration

14 CFR Part 39

[Docket No. 2000-NM-352-AD; Amendment 39-12214; AD 2001-09-09]

RIN 2120-AA64

Airworthiness Directives; Airbus Model A330 and A340 Series Airplanes

AGENCY: Federal Aviation Administration, DOT.

ACTION: Final rule; request for comments.

SUMMARY: This amendment adopts a new airworthiness directive (AD), applicable to certain Airbus Model A330 and A340 series airplanes. This action requires a one-time inspection to verify the proper configuration of the drive assemblies for the low-pressure and, for certain airplanes, the cross-feed fuel valves; and corrective action, if necessary. This action is necessary to prevent failure of the low-pressure and/or cross-feed fuel valves, which could result in the inability to shut off the fuel supply to the engine and exacerbate an engine fire, or the inability to cross-feed fuel when required. This action is intended to address the identified unsafe condition.

DATES: Effective May 21, 2001.

The incorporation by reference of certain publications listed in the regulations is approved by the Director of the Federal Register as of May 21, 2001.

Comments for inclusion in the Rules Docket must be received on or before June 4, 2001.

ADDRESSES: Submit comments in triplicate to the Federal Aviation Administration (FAA), Transport Airplane Directorate, ANM-114, Attention: Rules Docket 2000-NM-352-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-352-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The Direction Generale de l'Aviation Civile (DGAC), which is the airworthiness authority for France, notified the FAA that an unsafe condition may exist on certain Airbus Model A330 and A340 series airplanes. The DGAC advises that an operator of a Model A340 series airplane experienced an engine shutdown less than a minute after engine startup. Subsequent inspection of the low-pressure fuel valve drive of the engine revealed that a thrust washer was missing from the drive assembly. The reason for the missing washer is unknown. The absence of the washer allowed excessive movement of the spindle in the drive assembly, which caused the spindle to disconnect from the actuator. Because the actuator was not connected to the spindle of the drive assembly, the fuel valve could not be operated. Failure of the low-pressure fuel valve, if not corrected, could result in the inability to shut off the fuel supply to the engine and exacerbate an engine fire.

The subject low-pressure fuel valves are installed on certain Model A330 and A340 series airplanes. Therefore, those Model A330 series airplanes are also subject to the unsafe condition identified in this AD.

Failure of the cross-feed valves could result in the inability to cross-feed fuel when required only on Model A330 series airplanes flying under extended range twin-engine operations (ETOPS).

Relevant Service Information

Airbus has issued Service Bulletins A330-28A3069 (for Model A330 series airplanes) and A340-28A4087 (for Model A340 series airplanes), both dated July 27, 2000. The service bulletins describe procedures for a one-time inspection to verify the proper configuration of the drive assemblies for the low-pressure and cross-feed fuel valves. If the washer is missing, the service bulletins provide procedures for installing a new thrust washer. If excessive movement of the drive spindle is detected, the service bulletins provide procedures for inspecting the drive assembly to detect damage and wear and replacing unserviceable parts with serviceable parts. These actions are intended to adequately address the unsafe condition. The DGAC classified the service bulletins as mandatory and issued French airworthiness directives 2000-406-125(B) and 2000-405-152(B), both dated September 20, 2000, to ensure the continued airworthiness of these airplanes in France.

FAA's Conclusions

These airplane models are manufactured in France and are type certificated for operation in the United States under the provisions of § 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design certificated for operation in the United States.

Explanation of Requirements of the Rule

Since an unsafe condition has been identified that is likely to exist or develop on other airplanes of the same type design that may be registered in the United States at some time in the future, this AD is being issued to prevent failure of the low-pressure and/or cross-feed fuel valves, which could result in the inability to shut off the fuel supply to the engine and exacerbate an engine fire, or the inability to cross-feed fuel when required. This AD requires the actions specified in the service bulletins, described previously.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 16 work hours to accomplish the required actions, at an average labor rate of $60 per work hour. Based on these figures, the cost impact of this AD would be $960 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2000-NM-352-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-09-09 Airbus Industrie: Amendment 39-12214. Docket 2000-NM-352-AD.

Applicability: The following airplanes, certificated in any category, listed in the following table:

Table 1—Applicability
Model/series | Having serial numbers— | Equipped with—
A330-202, -223, -243, -301, -321, -322, -323, -341, -342, -343 | 0012 through 0314 inclusive, 0316 through 0319 inclusive, 0321, 0322, 0325 through 0328 inclusive | Low-pressure fuel valves having part number (P/N) HTE900212 or HTE900160, and having a cross-feed valve having P/N HTE900162.
A340-211, -212, -213, -311, -312, -313 | 0002 through 0327 inclusive | Low-pressure fuel valves having P/N HTE900212 or HTE900160.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the low-pressure and/or cross-feed fuel valves, which could result in the inability to shut off the fuel supply to the engine and exacerbate an engine fire, or the inability to cross-feed fuel when required, accomplish the following:

Inspection

(a) Within 1,450 flight hours after the effective date of this AD, perform a one-time detailed visual inspection of the drive assemblies for the low-pressure and cross-feed fuel valves to detect discrepancies (incorrect configuration including a missing thrust washer and excessive movement of the drive spindle), in accordance with Airbus Service Bulletin A330-28A3069 (for Model A330 series airplanes) or A340-28A4087 (for Model A340 series airplanes), both dated July 27, 2000; as applicable. If any discrepancy is found: Prior to further flight, perform applicable corrective actions (including inserting a new washer, inspecting the drive assembly to detect damage and wear, repairing cracking, and replacing unserviceable parts with serviceable parts) in accordance with the applicable service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Spares

(b) As of the effective date of this AD, no person may install on any airplane a low-pressure fuel valve having P/N HTE900212 or HTE900160, unless that valve has been inspected and applicable corrective actions have been performed in accordance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Airbus Service Bulletin A330-28A3069, dated July 27, 2000; and Airbus Service Bulletin A340-28A4087, dated July 27, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2000-406-125(B) and 2000-405-152(B), both dated September 20, 2000.

Effective Date

(f) This amendment becomes effective on May 21, 2001.

Issued in Renton, Washington, on April 24, 2001.
Donald L. Riggin,
Acting Manager, Transport Airplane Directorate, Aircraft Certification Service.

[FR Doc. 01-10726 Filed 5-3-01; 8:45 am]

BILLING CODE 4910-13-U